DEPARTMENT OF COMMERCE

National Oceanic and Atmospheric Administration

RIN 0648-XD93

Fisheries of the Exclusive Economic Zone Off Alaska; Groundfish Fisheries in the Bering Sea and Aleutian Islands

AGENCY: National Marine Fisheries Service (NMFS), National Oceanic and Atmospheric Administration (NOAA), Commerce.

ACTION: Notice; request for written comments.

SUMMARY: NMFS, in consultation with the North Pacific Fishery Management Council, announces its intent to prepare an Environmental Impact Statement (EIS) on salmon bycatch reduction measures in the Bering Sea and Aleutian Islands management area (BSAI), in accordance with the National Environmental Policy Act of 1969. The proposed action would replace the current Chinook and Chum Salmon Savings Areas in the BSAI with new regulatory closures, salmon bycatch limits, or a combination of both. These management measures could incorporate current or new bycatch reduction methods. The scope of the EIS will be to determine the impacts to the human environment resulting from these salmon bycatch reduction measures. NMFS will accept written comments from the public to determine the issues of concern and the appropriate range of management alternatives for analysis in the EIS.

DATES: Written comments must be received by February 15, 2008.

ADDRESSES: Written comments on issues and alternatives for the EIS should be sent to Sue Salveson, Assistant Regional Administrator, Sustainable Fisheries Division, Alaska Region, NMFS, Attn: Ellen Sebastian. Comments may be submitted by

• E-mail: 0648-AW25-SalmonBycatchEIS@noaa.gov. Include in the subject line the following document identifier: Salmon Bycatch EIS. E-mail comments, with or without attachments, are limited to 5 megabytes;

• Mail: P.O. Box 21668, Juneau, AK 99802;

• Hand Delivery to the Federal Building: 709 West 9th Street, Room 420A, Juneau, AK; or

• Fax: 907-586-7557.

All Personal Identifying Information (e.g., name, address) voluntarily submitted by the commenter may be publicly accessible. Do not submit Confidential Business Information or otherwise sensitive or protected information.

NMFS will accept anonymous comments. Attachments to electronic comments will be accepted in Microsoft Word, Excel, WordPerfect, or Adobe portable document file (pdf) formats only.

FOR FURTHER INFORMATION CONTACT: Jason Anderson, (907) 586-7228 or jason.anderson@noaa.gov.

SUPPLEMENTARY INFORMATION: Under the Magnuson-Stevens Fishery Conservation and Management Act (Magnuson-Stevens Act), the United States has exclusive fishery management authority over all living marine resources found within the exclusive economic zone. The management of these marine resources, with the exception of certain marine mammals and birds, is vested in the Secretary of Commerce. The North Pacific Fishery Management Council (Council) has the responsibility to prepare fishery management plans for those marine resources off Alaska requiring conservation and management. Management of the Federal groundfish fishery in the BSAI is carried out under the Fishery Management Plan for Groundfish of the Bering Sea and Aleutian Islands Management Area (FMP). The FMP, its amendments, and implementing regulations (found at 50 CFR part 679) are developed in accordance with the requirements of the Magnuson-Stevens Act and other applicable Federal laws and executive orders, notably the National Environmental Policy Act (NEPA) and the Endangered Species Act (ESA).

The Council is considering replacing the current Chinook and Chum Salmon Savings Areas in the BSAI with new regulatory closures, salmon bycatch limits, or a combination of both. These management measures could incorporate current or new bycatch reduction methods. NMFS and the Council have determined the preparation of an Environmental Impact Statement (EIS) may be required for this action because some important aspects of the impacts of salmon bycatch in the BSAI on the salmon stocks of origin and users of these salmon are uncertain or unknown and may result in significant impacts on the human environment not previously analyzed. Thus, NMFS and the Council are initiating scoping for an EIS in the event that an EIS is needed.

NMFS and the Council are seeking information from the public through the EIS scoping process on the range of alternatives to be analyzed, and on the environmental, social, and economic issues to be considered in the analysis. Written comments generated during this scoping process will be provided to the Council and incorporated into the EIS.

Chinook and Chum Salmon Savings Areas

To address Chinook salmon bycatch concerns, the Council adopted several management measures designed to reduce overall Chinook salmon bycatch in the BSAI trawl fisheries. In 1995, the Council adopted, and NMFS approved, Amendment 21b to the FMP. Based on historic information on salmon bycatch, Amendment 21b established a Chinook Salmon Savings Area (60 FR 61215, November 29, 1995). Under Amendment 21b, the Chinook Salmon Savings Area closed when the bycatch of Chinook salmon in BSAI trawl fisheries reached 48,000 fish. Amendment 58 to the FMP revised the Chinook Salmon Savings Area measures (65 FR 60587, October 12, 2000). Amendment 58 reduced the Chinook salmon bycatch limit from 48,000 fish to 29,000 fish, mandated year-round accounting of Chinook bycatch in the directed pollock fishery, revised the boundaries of the Chinook Salmon Savings Area closure, and implemented new closure dates.

The Council also adopted a time-area closure designed to reduce overall non-Chinook salmon bycatch in the BSAI trawl fisheries. In 1995, Amendment 35 to the FMP established the Chum Salmon Savings Area (60 FR 34904, July 5, 1995). This area is closed to all trawling from August 1 through August 31 of each year. Additionally, if 42,000 non-Chinook salmon are caught in the Catcher Vessel Operational Area during the period August 15 through October 14, the area remains closed for the remainder of the calendar year.

The Chinook and Chum Salmon Savings Areas were adopted based on historic observed salmon bycatch rates and were designed to avoid high spatial and temporal levels of salmon bycatch. From 1990 through 2001, the BSAI salmon bycatch average was 37,819 Chinook and 69,332 non-Chinook annually. Recently, however, salmon bycatch numbers have increased substantially. The numbers of Chinook and non-Chinook salmon bycatch in the BSAI groundfish fisheries from 2003 through December 7, 2007, are shown in the following table:

Year | Number of Chinook | Number of non-Chinook
2003 | 55,422 | 197,287
2004 | 63,188 | 457,817
2005 | 74,967 | 711,938
2006 | 87,730 | 326,445
2007 through December 7 | 130,246 | 97,904

NMFS and the Council are concerned with this level of salmon bycatch because of the potential negative impacts on salmon stocks in general, and on western Alaska salmon stocks in particular.

Recent Salmon Bycatch Management Measures

To address these increasing salmon bycatch amounts, the Council adopted, and NMFS implemented on October 29, 2007, Amendment 84 to the FMP (72 FR 61070, October 29, 2007). Spatial and temporal comparisons of non-community development quota (CDQ) vessels fishing outside of the salmon savings areas with CDQ vessels fishing inside of the salmon savings areas indicated that salmon bycatch rates were much higher outside of the savings areas, and closures were displacing vessels to higher bycatch areas. Amendment 84 exempts non-CDQ and CDQ pollock vessels participating in a salmon bycatch reduction inter-cooperative agreement (ICA) from closures of the Chinook and Chum Salmon Savings Areas in the BSAI. Additionally, vessels participating in trawl fisheries for species other than pollock are exempt from Chum Salmon Savings Area Closures

The purpose of the salmon bycatch avoidance ICA is to use real-time salmon bycatch information to avoid areas of high non-Chinook and Chinook salmon bycatch rates. The ICA utilizes a system of base bycatch rates, assignment of vessels to tiers based on bycatch rates relative to the base rate, a system of closures for vessels in certain tiers, and monitoring and enforcement through private contractual arrangements.

Amendment 84 was adopted by the Council because it was perceived to be relatively simple to implement, with the potential to reduce salmon bycatch rates. Meanwhile, the Council also initiated analysis on this proposed action to further address salmon bycatch issues, and provide additional management measures should ICA members choose not to participate in the ICA in the future.

Proposed Action

The proposed action is to replace the current Chinook and Chum Salmon Savings Areas in the BSAI with new regulatory closures, salmon bycatch limits, or a combination of both based on current salmon bycatch information. These management measures could incorporate current or new bycatch reduction methods. The purpose of the proposed action is to minimize non-Chinook and Chinook salmon bycatch to the extent practicable. The proposed action is necessary to maintain a healthy marine ecosystem, ensure long-term conservation and abundance of salmon, provide maximum benefit to fishermen and communities that depend on these resources, and comply with the Magnuson-Stevens Act.

Alternative Management Measures

NMFS, in consultation with the Council, will evaluate a range of alternative management measures for the BSAI groundfish fisheries. The Council's Salmon Bycatch Workgroup is reviewing the latest scientific information regarding the impacts of salmon interactions with groundfish fisheries and developing alternative salmon bycatch reduction measures. Alternatives may be formulated based on the elements identified here, and those developed through the public scoping and Council processes. Possible alternatives could be constructed from one or more of the following measures:

1.Prohibited Species Catch (PSC) limit Establish a PSC limit for non-Chinook and Chinook salmon bycatch in the CDQ and non-CDQ pollock fisheries. PSC limits could be allocated among pollock fishery sectors or fishery cooperatives. Fishery participants would be required to stop fishing when a PSC limit is reached.

2.Fixed closures Establish one or more salmon savings area closures based on current salmon bycatch information. These closures would occur on an annual or seasonal basis regardless of salmon bycatch amounts at the time of the closure.

3.Triggered closures Establish one or more salmon savings area closures based on current salmon bycatch information. These closures would occur based on criteria evaluated in the EIS. Criteria could include a threshold salmon bycatch number or rate.

4.PSC accounting period Revise the current PSC accounting period to coincide with the salmon biological year to provide additional protections to salmon in the BSAI. Accounting would begin annually in the “B” season, and continue through the following “A” season.

Additionally, the Council may incorporate the current or a new version of the salmon bycatch reduction ICA into one or more alternatives.

Preliminary Identification of Issues

A principal objective of the scoping and public input process is to identify potentially significant impacts to the human environment that should be analyzed in the EIS. The analysis will evaluate the impacts of the alternatives for all resources, species, and issues that may be directly or indirectly affected by salmon bycatch in the BSAI pollock fisheries. The following components of the biological and physical environment may be evaluated: (1) target and non-target fish stocks, forage fish, and prohibited species, including salmon species; (2) species listed under the ESA and their critical habitat; (3) seabirds; (4) marine mammals; and (5) the ecosystem.

Social and economic impacts also would be considered in terms of the effects that changes to salmon bycatch management measures would have on the following groups of individuals: (1) those who participate in harvesting pollock; (2) those who process and market pollock and pollock products; (3) those who consume pollock products; (4) those who rely on living marine resources caught in the management area, particularly salmon; (5) those who benefit from commercial, subsistence, and recreational salmon fisheries; and (6) fishing communities.

Public Involvement

Scoping is an early and open process for determining the scope of issues to be addressed in an EIS and for identifying the significant issues related to the proposed action. A principal objective of the scoping and public involvement process is to identify a range of reasonable of management alternatives that, with adequate analysis, will delineate critical issues and provide a clear basis for distinguishing among those alternatives and selecting a preferred alternative. Through this notice, NMFS is notifying the public that an EIS and decision-making process for this proposed action have been initiated so that interested or affected people may participate and contribute to the final decision.

NMFS is seeking written public comments on the scope of issues, including potential impacts, and alternatives that should be considered in revising salmon bycatch management measures. Written comments will be accepted at the address above (see ADDRESSES). Written comments should be as specific as possible to be the most helpful. Written comments received during the scoping process, including the names and addresses of those submitting them, will be considered part of the public record of this proposal and will be available for public inspection.

The public is invited to participate and provide input at Council and Salmon Bycatch Workgroup meetings where the latest scientific information regarding salmon bycatch in the BSAI groundfish fisheries is reviewed and alternative salmon bycatch reduction measures are developed and evaluated. Notice of future Council and Salmon Bycatch Workgroup meetings will be published in the Federal Register and on the Internet at http://www.fakr.gov. Please visit this website for more information on this EIS and for guidance on submitting effective public comments.

Dated: December 18, 2007.
James P. Burgess,
Acting Director, Office of Sustainable Fisheries, National Marine Fisheries Service.

[FR Doc. E7-24953 Filed 12-21-07; 8:45 am]

BILLING CODE 3510-22-S